DEPARTMENT OF ENERGY

Federal Energy Regulatory Commission

[Docket No. CP00-129-000; Docket No. CP00-132-000]

Horizon Pipeline Company, L.L.C. and Natural Gas Pipeline Company of America; Notice of Intent To Prepare an Environmental Assessment for the Proposed Horizon Project and Request for Comments on Environmental Issues

June 1, 2000.

The staff of the Federal Energy Regulatory Commission (FERC or Commission) will prepare an environmental assessment (EA) that will discuss the environmental impacts of the Horizon Project involving construction and operation of facilities by Horizon Pipeline Company, L.L.C. (Horizon) and Natural Gas Pipeline Company of America (Natural) in Cook, DuPage, Kane, McHenry, and Will counties, Illinois.¹ These facilities would consist of approximately 71 miles of various diameter pipeline, a new compressor station, modification to an existing compressor station, meter stations, taps, and values. This EA will be used by the Commission in its decision-making process to determine whether the project is in the public convenience and necessity.

¹ Horizon and Natural's application were filed with the Commission under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice the applicants provided to landowners. This fact sheet addresses a number of typically asked questions, including the use of eminent domain and how to participate in the Commission's proceedings. It is available for viewing on the FERC Internet website (www.ferc.fed.us).

Summary of the Proposed Project

[Docket No. CP00-129-000]

Horizon does not currently own any pipeline facilities and is not engaged in any natural gas transportation operations. Upon approval of the subject applications, Horizon would become a new interstate pipeline company subject to Commission jurisdiction under the Natural Gas Act. Horizon proposes to provide 380 thousand dekatherms per day (Mdth/d) of gas transportation service to customers in northern Illinois. The Horizon Project would consist of 71 miles of pipeline from near Joliet, Illinois to near McHenry, Illinois. Approximately 29 miles would be new construction with the remaining 42 miles consisting of leased capacity along an existing Natural pipeline. Specifically, Horizon proposes to acquire, construct, and operate:

• 29 miles of new 36-inch-diameter pipeline in DuPage, Cook, Kane, and McHenry Counties, Illinois;

• Miscellaneous meter stations, taps, and values along the new 36-inch-diameter pipeline;

• 380 MDth/d of leased capacity along 42 miles of existing Natural pipeline in Will and DuPage Counties, Illinois; and

• 8,900 horsepower new compressor station adjacent to Natural's Compressor Station 113 in Will County, Illinois.

[Docket No. CP00-132-000]

Natural proposes to abandon 42 miles of leased capacity on its existing system to Horizon. The leased capacity would run from Natural's Gulf Cost mainline interconnect with Alliance Pipeline L.P. to an interconnect with the proposed Horizon pipeline. The capacity lease would require Natural to construct new facilities and to rearrange existing facilities. Specifically, Natural proposes to:

• Abandon by lease 380 MDth/d of capacity to Horizon;

• Increase the total horsepower of its existing Compressor Station 113 by 3,690 horsepower;

• Modify the Streamwood Meter Station; and

• Construct taps at the interconnects with the new Horizon pipeline in DuPage and McHenry Counties, Illinois.

The locations of all proposed facilities are shown in appendix 1.

Land Requirements for Construction

Construction of the proposed facilities would require about 424 acres of land. Following construction, approximately 139 acres would be maintained as new pipeline right-of-way and about 7 acres would be maintained as new aboveground facility sites. The remaining 278 acres of land would be restored and allowed to prevent to the former use.

The EA Process

The National Environmental Policy Act (NEPA) requires that Commission to take into account the environmental impacts that could result from an action whenever it considers the issuance of a Certificate of Public Convenience and Necessity. NEPA also requires us to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

The EA will discuss impacts that could occur as a result of the construction and operation of the proposed project under these general headings:

• Geology and soils;

• Water resources, fisheries, and wetlands;

• Vegetation and wildlife;

• Endangered and threatened species;

• Land use;

• Cultural Resources;

• Air quality and noise; and

• Public safety.

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make or our recommendations to the Commission.

To ensure your comments are considered, please carefully follow the instructions in the public participation section beginning on page 4.

Currently Identified Environmental Issues

We have already identified several issues that we think deserve attention based on a preliminary review of the proposed facilities and the environmental information provided by Horizon. This preliminary list of issues may be changed based on your comments and our analysis.

• The project would be cross 10 perennial streams, 24 acres of wetlands, and 22 acres of forest.

• Federally listed endangered or threatened species, such as the prairie bush clover and the eastern prairie fringed orchid, may occur in the proposed project area.

• The project would cross public lands and other designated areas, such as the Pratts Wayne Woods County Forest Preserve, the Stickney Run Conservation Area, and the Bates Fen Nature Preserve, in DuPage and McHenry Counties.

Public Participation

You can make a difference by providing us with your specific comments or concerns about the project. By becoming a commentor, your concerns will be addressed in the EA and considered by the Commission. You should focus on the potential environmental effects of the proposal, alternatives to the proposal (including alternative routes, and measure to avoid or lessen environmental impact. The more specific your comments, the more useful they will be. Please carefully follow these instructions to ensure that your comments are received in time and properly recorded:

• Send two copies of your letter to: David P. Boergers, Secretary, Federal Energy Regulatory Commission, 888 First St., NE, Room 1A, Washington, DC 20426.

• Label one copy of the comments for the attention of Gas 1.

• Reference Docket Nos. CP00-129-000 & CP00-132-000.

• Mail your comments so that they will be received in Washington, DC on or before June 30, 2000.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only Intervenors have the right to seek rehearing of the Commission's decision.

Affected landowners and parties with environmental concerns may be granted intervenor status upon showing good cause by stating that they have clear and direct interest in this proceeding which would not be adequately represented by any other parties. You do not need intervenor status to have your environmental comments considered.

Additional information about the proposed project is available from Mr. Paul McKee of the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-14229 Filed 6-6-00; 8:45 am]

BILLING CODE 6717-01-M